DEPARTMENT OF LABOR

Office of the Secretary

Submission for OMB Review: Comment Request

October 31, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not toll-free number) / e-mail: king.darrin@dol.gov.

Comments should be sent to Office of Information and Regulatory Affairs, Attn: OMB Desk Officer, Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Center for Faith-Based and Community Initiatives.

Type of Review: Reinstatement with Change of a Previously Approved Collection.

Title: Workforce Investment Board Survey.

OMB Number: 1290-0004.

Type of Response: Reporting.

Affected Public: State, Local, and Tribal Government.

Number of Respondents: 500.

Number of Annual Responses: 500

Estimated Time per Response: Varies from 10 minutes for DOL respondents to 2 hours for DOJ respondents.

Total Burden Hours: 156.

Total Annualized capital/startup costs: $0.

Total Annual Costs (operating/maintaining systems or purchasing services): $0.

Description: The U.S. Department of Labor (DOL), and the Employment and Training Administration (ETA) and the Center for Faith-Based and Community Initiatives (CFBCI) specifically, needs accurate, timely information on how services and systems under Workforce Investment Act (WIA) are unfolding and on the challenges and successes states and local areas encounter. Only in this way can it properly discharge its obligations to issue policy clarifications, regulations and technical assistance. This need is particularly acute given that the workforce investment system has been evolving rapidly in the several years since WIA was enacted. It is expected that WIA will continue to change rapidly.

Much of the information available to DOL on key operational issues is impressionistic or anecdotal in nature, based on hearsay or unsystematic observations, and not accurate as to the incidence or scope nationally. When accurate nationwide information is available, as from long-term in-depth evaluation studies, it is often not timely. Thus DOL has a need for accurate and timely information that can be found only with systematic studies.

Regarding the survey for Workforce Investment Boards (WIBs) in particular, the White House Office of Faith-Based and Community Initiatives (WHOFBCI) and OMB have directed DOL to conduct this survey. The reason is that ETA and CFBCI currently do not have a mechanism by which to obtain information regarding the grants, contracts, and cooperative agreements being awarded by local and state WIBs using WIA formula funds. It is critical that DOL obtain this information in order to better understand how much money is being spent and the types of organizations that receive the funds. This WIB survey will bridge the gap in DOL's knowledge of WIB grants, contracts, and cooperative agreements that utilize WIA youth funds.

The U.S. Department of Justice (DOJ) is in a similar situation. Like the DOL, much of the information available to DOJ on key operational issues is impressionistic or anecdotal in nature, based on hearsay or unsystematic observations, and not accurate as to the incidence or scope nationally. When accurate nationwide information is available, as from long-term in-depth evaluation studies, it is often not timely. Thus DOJ has a need for accurate and timely information that can be found only with systematic studies. Absent this survey, the DOJ does not have a mechanism by which to obtain information regarding certain grants, contracts, and cooperative agreements being awarded by state administering agencies using DOJ funds, particularly the Bureau of Justice Assistance's Residential Substance Abuse Treatment for State Prisoners program (RSAT). It is critical that DOJ obtain this information in order to better understand how much money is being spent and the types of organizations that receive the funds. Again, like DOL, DOJ is especially interested to obtain information on those grants being awarded to faith-based and community-based non-profit organizations.

This DOL survey is designed to fill a critical gap in its information needs regarding how the workforce system is unfolding and will inform development of legislation, regulations and technical assistance. The WHOFBCI used the information gathered by DOL in the December 2005 survey to determine the degree to which faith-based and community-based non-profit organizations received WIA Youth formula funds at the state and local levels. DOL will use the information gathered in the upcoming surveys to determine whether there have been any changes in the way DOL funds have been awarded, especially regarding their issuance to faith-based and community-based non-profit organizations.

Darrin A. King,
Acting Departmental Clearance Officer.

[FR Doc. E6-18616 Filed 11-3-06; 8:45 am]

BILLING CODE 4510-23-P